ENVIRONMENTAL PROTECTION AGENCY

40 CFR Part 60

[EPA-HQ-OAR-2018-0851; FRL-9999-86-OAR]

RIN 2060-AU27

Standards of Performance for Stationary Compression Ignition Internal Combustion Engines; Withdrawal of Direct Final Rule

AGENCY: Environmental Protection Agency (EPA).

ACTION: Withdrawal of direct final rule.

SUMMARY: Because the U.S. Environmental Protection Agency (EPA) received adverse comment, we are withdrawing the direct final rule amending the Standards of Performance for Stationary Compression Ignition Internal Combustion Engines published on July 5, 2019.

DATES: The direct final rule published on July 5, 2019 (84 FR 32084), is withdrawn effective September 20, 2019.

FOR FURTHER INFORMATION CONTACT: For questions about this action, contact Melanie King, Sector Policies and Programs Division (D243-01), Office of Air Quality Planning and Standards, U.S. Environmental Protection Agency, Research Triangle Park, North Carolina 27711; telephone number: (919) 541-2469; fax number: (919) 541-4991; and email address: king.melanie@epa.gov.

SUPPLEMENTARY INFORMATION: On July 5, 2019, the EPA published a direct final rule (84 FR 32084) and a parallel proposal (84 FR 32114) to amend the Standards of Performance for Stationary Compression Ignition Internal Combustion Engines to revise the emission standards for particulate matter for new stationary compression ignition engines located in remote areas of Alaska. We stated in that direct final rule that if we received adverse comment by August 5, 2019, the direct final rule would not take effect and we would publish a timely withdrawal in the Federal Register. We subsequently received adverse comment on that direct final rule and are withdrawing it. We will address those comments in any subsequent final action, which will be based on the parallel proposed rule also published on July 5, 2019. As stated in the direct final rule and parallel proposed rule, we will not institute a second comment period on this action.

List of Subjects in 40 CFR Part 60

Environmental protection, Administrative practice and procedure, Air pollution control, Reporting and recordkeeping requirements.

Dated: September 9, 2019.
Andrew R. Wheeler,
Administrator.

PART 60—STANDARDS OF PERFORMANCE FOR NEW STATIONARY SOURCES

Accordingly, the final rule amending 40 CFR 60.4216 published in the Federal Register on July 5, 2019 (84 FR 32084), is withdrawn effective September 20, 2019.

[FR Doc. 2019-20128 Filed 9-19-19; 8:45 am]

BILLING CODE 6560-50-P